DEPARTMENT OF THE TREASURY

Internal Revenue Service

Advisory Committee to the Internal Revenue Service; Meeting

AGENCY: Internal Revenue Service (IRS), Treasury.

ACTION: Notice of meeting.

SUMMARY: The Information Reporting Program Advisory Committee (IRPAC) will hold a public meeting on Wednesday, October 26, 2011.

FOR FURTHER INFORMATION CONTACT: Ms. Caryl Grant, National Public Liaison, CL:NPL:SRM, Rm. 7559, 1111 Constitution Avenue, NW., Washington, DC 20224. Phone: 202-927-3641 (not a toll-free number). E-mail address: *public_liaison@irs.gov.

SUPPLEMENTARY INFORMATION: Notice is hereby given pursuant to section 10(a)(2) of the Federal Advisory Committee Act, 5 U.S.C. App. (1988), that a public meeting of the IRPAC will be held on Wednesday, October 26, 2011 from 9 a.m. to 12 p.m. at the United States Access Board, 1331 F Street, NW., Washington, DC 20004. Report recommendations on issues that may be discussed include: Foreign Account Tax Compliance Act, § 6050W information reporting of payments made in settlement of payment card and third party network transactions and Form 1099-K, information regarding non-resident alien taxation and tax reporting, withholding tax issues, identity theft, tax credit bonds, Affordable Care Act—employer and insurer reporting, tip income reporting compliance and enforcement efforts, employer identification numbers for retirement plans, Form 1099-R reporting and withholding guidance for certain installment payments, Form 1099 instructions, taxpayer identification number masking on payee 1099s, Form 1099-B modifications, business master file address change procedures, program problems encountered by foreign artists when applying for U.S. social security numbers, withholding and reporting on payments for freight, shipping, and other transportation expenses, changes to Publication 3908, gaming tax law and Bank Secrecy Act issues for Indian tribal governments, Form 5500EZ, erroneous claims for itemized deductions for unreimbursed business expenses, and fringe benefit information. Last minute agenda changes may preclude advance notice. Due to limited seating and security requirements, please call or e-mail Caryl Grant to confirm your attendance. Ms. Grant can be reached at 202-927-3641 or *public_liaison@irs.gov. Should you wish the IRPAC to consider a written statement, please call 202-927-3641, or write to: Internal Revenue Service, Office of National Public Liaison, CL:NPL:SRM, Room 7559, 1111 Constitution Avenue, NW., Washington, DC 20224 or e-mail: *public_liaison@irs.gov.

Dated: September 23, 2011.
Candice Cromling,
Director, National Public Liaison.

[FR Doc. 2011-25342 Filed 9-30-11; 8:45 am]

BILLING CODE 4830-01-P